DEPARTMENT OF STATE

[Public Notice 3836]

Shipping Coordinating Committee; Meeting Notice

The Shipping Coordinating Committee, will conduct an open meeting on Thursday, February 21, 2002, at 1:30 pm in Room 6103, U.S. Coast Guard Headquarters, 2100 Second Street, SW, Washington, DC. The purpose of the meeting is to prepare for the forty-fifth session of the Subcommittee on Ship Design and Equipment of the International Maritime Organization (IMO) that is scheduled for March 18-22, 2002, at IMO Headquarters in London, England.

Among other things, items of particular interest are: large passenger ship safety; revision of resolutions MEPC.60(33) and A.586(14) regarding pollution prevention equipment; interpretations and amendments to the 2000 High Speed Craft Code; development of guidelines for ships operating in ice-covered waters; low-powered radio homing devices for liferafts on ro-ro passenger ships; use of desalinators on liferafts and lifeboats; amendments to the International Convention for the Safety of Life at Sea (SOLAS) requirements on electrical installations; amendments to resolution A.744(18) regarding guidelines on the enhanced program of inspections during surveys of bulk carriers and oil tankers; revision of the Interim Standards for ship maneuverability; and guidelines under the International Convention for the Prevention of Pollution from Ships (MARPOL) Annex VI on prevention of air pollution from ships.

All members of the public are encouraged to attend or send representatives to participate in the development of U.S. positions on those issues affecting your maritime industry and remain abreast of all activities ongoing within the IMO. Members of the public may attend this meeting up to the seating capacity of the room. Interested persons may seek information by writing: Mr. Wayne Lundy, U.S. Coast Guard Headquarters, Commandant (G-MSE-3), 2100 2nd Street, SW., Washington, DC 20593-0001 or by calling: (202) 267-2206.

Dated: January 17, 2002.
Stephen Miller,
Executive Secretary, Shipping Coordinating Committee, Department of State.

[FR Doc. 02-2161 Filed 1-28-02; 8:45 am]

BILLING CODE 4710-07-P